DEPARTMENT OF COMMERCE

International Trade Administration

[A-570-826]

Paper Clips From the People's Republic of China: Final Results of Expedited Sunset Review of Antidumping Duty Order

AGENCY: Import Administration, International Trade Administration, Department of Commerce.

SUMMARY: On January 3, 2011, the Department of Commerce (“the Department”) initiated the third sunset review of the antidumping duty order on paper clips from the People's Republic of China (“PRC”) pursuant to section 751(c) of the Tariff Act of 1930, as amended (“the Act”). Based on the notice of intent to participate and adequate substantive response filed by a domestic interested party, and the lack of response from any respondent interested party, the Department conducted an expedited (120-day) sunset review of the antidumping duty order on paper clips from the PRC, pursuant to section 751(c)(3)(B) of the Act and 19 CFR 351.218(e)(1)(ii)(C)(2). As a result of this sunset review, the Department finds that revocation of the antidumping duty order would be likely to lead to continuation or recurrence of dumping, at the levels indicated in the “Final Results of Review” section of this notice, infra.

DATES: Effective Date: May 6, 2011.

FOR FURTHER INFORMATION CONTACT: Krisha Hill or Charles Riggle, AD/CVD Operations, Office 8, Import Administration, International Trade Administration, U.S. Department of Commerce, 14th Street and Constitution Avenue, NW., Washington, DC 20230; telephone: (202) 482-4037 or (202) 482-0650, respectively.

SUPPLEMENTARY INFORMATION: On November 25, 1994, the Department published the antidumping duty order on paper clips from the PRC.¹ On January 3, 2011, the Department published the notice of initiation of the third sunset review of the antidumping duty order on paper clips from the PRC pursuant to section 751(c) of the Tariff Act of 1930, as amended (“the Act”). See Initiation of Five-Year (“Sunset”) Review, 76 FR 89 (January 3, 2011). On January 10, 2011, the Department received a notice of intent to participate from ACCO Brands USA LLP (“ACCO”), a domestic interested party, within the deadline specified in 19 CFR 351.218(d)(1)(i). ACCO claimed interested parties status under section 771(9)(C) of the Act, as a producer in the United States of a domestic like product. On February 2, 2011, the Department received a complete and adequate substantive response from ACCO within 30 days of publication of the initiation. The Department did not receive a response from any respondent interested parties to this proceeding. As a result, pursuant to section 751(c)(3)(B) of the Act and 19 CFR 351.218(e)(1)(ii)(C)(2), the Department conducted an expedited (120-day) sunset review of the antidumping duty order on paper clips from the PRC.

¹ See Antidumping Duty Order: Certain Paper Clips From the People's Republic of China, 59 FR 60606 (November 25, 1994).

Scope of the Order

The products covered by the order are certain paper clips, wholly of wire of base metal, whether or not galvanized, whether or not plated with nickel or other base metal (e.g., copper), with a wire diameter between 0.025 inches and 0.075 inches (0.64 to 1.91 millimeters), regardless of physical configuration, except as specifically excluded. The products subject to the order may have a rectangular or ring-like shape and include, but are not limited to, clips commercially referred to as No. 1 clips, No. 3 clips, Jumbo or Giant clips, Gem clips, Frictioned clips, Perfect Gems, Marcel Gems, Universal clips, Nifty clips, Peerless clips, Ring clips, and Glide-On clips. The products subject to the order are currently classifiable under subheading 8305.90.3010 of the Harmonized Tariff Schedule of the United States (“HTSUS”).

Specifically excluded from the scope of the order are plastic and vinyl covered paper clips, butterfly clips, binder clips, or other paper fasteners that are not made wholly of wire of base metal and are covered under a separate subheading of the HTSUS.

Although the HTSUS subheadings are provided for convenience and customs purposes, the written description of the scope of the order is dispositive.

Analysis of Comments Received

A complete discussion of all issues raised in this sunset review is provided in the accompanying Issues and Decision Memorandum (“I&D Memo”), dated concurrently with this notice. The issues discussed in the I&D Memo include the likelihood of continuation or recurrence of dumping and the magnitude of the margins likely to prevail if the order is revoked. Parties can obtain a public copy of the I&D Memo from the Central Records Unit, room 7046, of the main Commerce building. In addition, a complete public version of the I&D Memo can be accessed directly on the Web at http://ia.ita.doc.gov/frn. The paper copy and electronic version of the I&D Memo are identical in content.

Final Results of Review

The Department determines that revocation of the antidumping duty order on paper clips from the PRC would be likely to lead to continuation or recurrence of dumping at the following weighted-average margins:

Manufacturers/exporters/producers | Weighted- average margin (percent)
Shanghai Lansheng Corporation | 57.64
Zhejiang Light Industrial Products Import & Export Corporation | 46.01
Zhejiang Machinery and Equipment Import & Export Corporation | 60.70
PRC-wide Rate | 126.94

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act.

Dated: April 26, 2011.
Paul Piquado,
Acting Deputy Assistant Secretary for Import Administration.

[FR Doc. 2011-11126 Filed 5-5-11; 8:45 am]

BILLING CODE 3510-DS-P